DEPARTMENT OF TRANSPORTATION

National Highway Traffic Safety Administration

[Docket No. NHTSA 2001-10856]

Motor Vehicle Safety; Disposition of Recalled Tires; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. Federal Register notices with a 60-day comment period were published on May 27, 2003, at Vol. 68, No. 101 p. 28876-77 and on April 22, 2004, at Vol. 69, No. 78 p 21881-3.

DATES: Comments must be submitted on or before January 10, 2005.

ADDRESSES: Send comments, within 30 days, to the Office of Information and Regulatory Affairs, Office of Management and Budget, 725-17th Street, NW., Washington, DC 20503, Attention NHTSA Desk Officer.

FOR FURTHER INFORMATION CONTACT: George Person at the National Highway Traffic Safety Administration, Recall Management Division, NVS-215, 400 Seventh Street, SW., Washington, DC 20590, phone 202-366-5210.

SUPPLEMENTARY INFORMATION: Agency: National Highway Traffic Safety Administration.

Title: Motor Vehicle Safety; Disposition of Recalled Tires.

OMB Number: 2127—0004.

Type of Request: Revision of currently approved collection.

Abstract: Section 7 of the Transportation Recall Enhancement, Accountability, and Documentation (TREAD) Act requires a manufacturer's remedy program for tires to include a plan for preventing, to the extent reasonably within the manufacturer's control, the resale of replaced tires for use on motor vehicles, as well as a plan for the disposition of replaced tires other than in landfills, particularly through methods such as shredding, crumbling, recycling, recovery, or other “beneficial non-vehicular uses.” Manufacturers that conduct recalls are already required by 49 CFR part 573 to submit a Defect or Noncompliance Information Report, containing certain information, to the National Highway Traffic Safety Administration (NHTSA). One item of required information is a description of the manufacturer's program for remedying the defect or noncompliance (remedy plan). This information collection adds the requirement for manufacturers to include their plan for disposal of recalled tires in their remedy plan. Further, Section 7 requires manufacturers to include information about the implementation of remedy plans in quarterly reports that they are required to make to NHTSA. Manufacturers are already required to file quarterly reports containing certain information about the progress of recalls. This rule adds a requirement to report to NHTSA in these quarterly reports information about tires which were not disposed of in accordance with the disposal plan.

Affected Public: All manufacturers of recalled tires and all dealers of recalled tires.

Estimated Total Annual Burden: 20 hours increase over the current allotment of 18,204 hours for a total of 18,224 hours. There is no increase in reporting and recordkeeping cost burden.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A comment to OMB is most effective if OMB receives it within 30 days of publication.

Issued in Washington, DC, on December 3, 2004.
Kenneth N. Weinstein,
Associate Administrator for Enforcement.

[FR Doc. 04-27104 Filed 12-9-04; 8:45 am]

BILLING CODE 4910-59-P